INTERNATIONAL BOUNDARY AND WATER COMMISSION, UNITED STATES AND MEXICO

United States Section; Notice of Availability of Final Environmental Impact Statement for Alternative Vegetation Maintenance Practices for the Lower Rio Grande Flood Control Project in Cameron, Hidalgo, and Willacy Counties, TX

AGENCY: United States Section, International Boundary and Water Commission, United States and Mexico.

ACTION: Notice of availability of Final Environmental Impact Statement.

SUMMARY: Pursuant to Section 102(2)(c) of the National Environmental Policy Act (NEPA) of 1969, as amended, the United States Section, International Boundary and Water Commission (USIBWC) has prepared a Final Environmental Impact Statement (FEIS) on Alternative Vegetation Maintenance Practices for the Lower Rio Grande Flood Control Project in Cameron, Hidalgo, and Willacy counties, Texas. The FEIS analyzes the Continued Maintenance Alternative (No-Action), comprising the current USIBWC vegetation maintenance program, and the impacts of three vegetation maintenance alternatives that vary from the current USIBWC vegetation maintenance practices along the Lower Rio Grande Valley. No final decision can be made on this proposal during the 30 days following the filing of this FEIS, in accordance with the Council on Environmental regulations, 40 CFR 1506.10(b)(2).

ADDRESSES: Comments should be addressed to: Carolyn Murphy, Chief, Environmental Section, Department of the Army, Galveston District, Corps of Engineers, P.O. Box 1229, Galveston, Texas 77553-1229. Copies of the FEIS are available for inspection and review at the following locations: Brownsville Public Library, 2600 Central Boulevard, Brownsville, Texas; Harlingen Public Library, 410 '76 Drive, Harlingen, Texas; and McAllen Public Library, 601 North Main Street, McAllen, Texas. The FEIS is also available on the USIBWC Home Page at: http://www.ibwc.state.gov; and at the United States Army Corps of Engineers, Galveston District, Home Page at: http://www.swg.usace.army.mil/.

FOR FURTHER INFORMATION CONTACT: Mr. Douglas Echlin, Environmental Protection Specialist, Environmental Management Division, USIBWC, 4171 North Mesa Street, C-100, El Paso, Texas 79902 or call (915) 832-4741, e-mail: dougechlin@ibwc.state.gov.

SUPPLEMENTARY INFORMATION: The USIBWC vegetation maintenance program is performed along the United States portion of the Lower Rio Grande Flood Control Project (LRGFCP). The vegetation maintenance program was established to fulfill the United States Government's obligations under International Boundary and Water Commission (IBWC) Minutes No. 212 and No. 238 and to protect life and properties in the United States and Mexico from Rio Grande flooding events.

Under Minute No. 212, the United States and Mexico agreed to annual concurrent channel bank mowing to reduce heavy brush growth in the river reach and to ensure a river channel capacity of 20,000 cfs at the Brownsville-Matamoros area. This maintenance mowing is considered necessary to prevent flooding in Brownsville and Matamoros for the design flood and to ensure that brush does not deflect river flood flows toward either country, thus altering the international boundary alignment by erosion. Minute No. 238 calls for equally dividing flood flows into interior floodways in each country, thereby ensuring the 20,000 cfs maximum flow at Brownsville and Matamoros.

On November 1, 1989, the Sierra Club et al. filed a civil action suit against the USIBWC alleging vegetation maintenance program violations of the Endangered Species Act (ESA) and the National Environmental Policy Act (NEPA) (CA No. 89-3005-RCL (1990 WL 116845 (D.D.C.)), Jul. 31, 1990). The plaintiffs alleged that the USIBWC had not prepared an Environmental Assessment or Environmental Impact Statement (EIS) relative to the operation and maintenance activities for the United States portion of the LRGFCP as required by NEPA. The plaintiffs also alleged that the USIBWC had not entered into formal consultation with the USFWS pursuant to Section 7 of the ESA with respect to the impacts of the United States portion of the LRGFCP on federally-listed threatened or endangered species.

In a 1990 Consent Decree, the USIBWC agreed to enter into formal consultation with the USFWS regarding the impacts of all vegetation clearing activities of the LRGFCP on federally listed species. The consultation process resulted in an issuance by the USFWS of a Biological Opinion (BO) on May 6, 1993. The USFWS has recently issued a new BO. In addition to formal consultation with USFWS, USIBWC agreed to the preparation of this EIS, which specifically addresses alternative vegetation maintenance practices.

This FEIS presents and analyzes the impacts of current and alternative USIBWC vegetation maintenance practices to fulfill commitments under the IBWC Minutes, the Consent Decree, and the new BO. The pertinent elements of the LRGFCP vegetation maintenance program are based on the need to:

• Maintain channel banks to provide adequate flood conveyance.

• Equitably divert flood flows into interior floodways.

• Remove brush and other obstructions within floodways.

• Maintain a wildlife corridor per the USFWS BO and the 1994 LRGFCP Off-River Wildlife Travel Corridor Plan.

Four potential vegetation maintenance alternatives, including the current USIBWC maintenance program, are considered and analyzed in the FEIS. The Preferred Alternative is the Continued Maintenance Alternative (No-Action), representing the continuation of the current USIBWC vegetation maintenance program.

A Record of Decision will be issued on this proposal after a minimum of 30 days following the filing of the FEIS. Any comments on the FEIS must be received no later than 30 days after the date of publication of the notice of availability by the Environmental Protection Agency (EPA) in the Federal Register. No action will be taken on the proposed action before 30 days following publication of the notice of availability of the FEIS by EPA.

Dated: December 15, 2003.
Mario Lewis,
General Counsel.

[FR Doc. 03-31670 Filed 12-23-03; 8:45 am]

BILLING CODE 4710-03-P